ENVIRONMENTAL PROTECTION AGENCY

40 CFR Part 52

[EPA-R06-OAR-2009-0214; FRL-8939-3]

Approval and Promulgation of Air Quality Implementation Plans; Texas; Control of Emissions of Nitrogen Oxides (NOX)

AGENCY: Environmental Protection Agency (EPA).

ACTION: Proposed rule.

SUMMARY: The EPA is proposing to approve revisions to the Texas State Implementation Plan (SIP) that amend 30 TAC Chapter 117, Control of Air Pollution from Nitrogen Compounds. On March 10, 2009, the State of Texas submitted a SIP revision containing amendments to the Beaumont-Port Arthur (BPA) 8-Hour Ozone Nonattainment Area Major Source rules, the Houston-Galveston-Brazoria (HGB) 8-Hour Ozone Nonattainment Area Major Source rules, and the HGB 8-Hour Ozone Nonattainment Area Minor Source rules. These revisions will result in additional flexibility and consistency in the current stationary reciprocating internal combustion engine and gas turbine monitoring specifications found in Chapter 117 by allowing for an output-based option for monitoring nitrogen oxides (NOX) emissions. This additional option is expected to be equally effective as totalizing fuel flow meters in the monitoring of NOX emissions at major stationary sources in the BPA 8-hour ozone nonattainment area and at both major and minor sources in the HGB 8-hour ozone nonattainment area. The EPA is proposing to approve these revisions pursuant to section 110 of the Federal Clean Air Act (CAA).

DATES: Written comments must be received on or before August 31, 2009.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the Addresses section of the direct final rule located in the rules section of this Federal Register.

FOR FURTHER INFORMATION CONTACT: Dayana Medina, Air Planning Section (6PD-L), Multimedia Planning and Permitting Division, U.S. EPA, Region 6, 1445 Ross Avenue, Dallas, Texas 75202-2733, telephone (214) 665-7241; fax number 214-665-7263; e-mail address medina.dayana@epa.gov.

SUPPLEMENTARY INFORMATION: In the final rules section of this Federal Register, EPA is approving the State's SIP submittal as a direct final rule without prior proposal because the Agency views this as a noncontroversial submittal and anticipates no adverse comments. A detailed rationale for the approval is set forth in the direct final rule. If no relevant adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule, which is located in the rules section of this Federal Register.

Dated: July 21, 2009.
Carl E. Edlund,
Acting Regional Administrator, Region 6.

[FR Doc. E9-18343 Filed 7-30-09; 8:45 am]

BILLING CODE 6560-50-P